DEPARTMENT OF ENERGY

Federal Energy Regulatory Commission

[Docket No. AD21-9-000]

The Office of Public Participation; Supplemental Notice of Workshop

As announced in the Notice of Workshop issued in the above-referenced proceeding on February 22, 2021, the Federal Energy Regulatory Commission (Commission) will convene a Commissioner-led workshop on Friday, April 16, 2021, from approximately 9:00 a.m. to 5:00 p.m. ET. The workshop will be held electronically. The purpose of this workshop is to provide interested parties with the opportunity to provide input to the Commission on the creation of the Office of Public Participation (OPP).

In December 2020, Congress directed the Commission to provide a report, by June 25, 2021, detailing its progress towards establishing the OPP. Section 319 of the Federal Power Act directs the Commission to establish the OPP to “coordinate assistance to the public with respect to authorities exercised by the Commission,” including assistance to those seeking to intervene in Commission proceedings. (16 U.S.C. 825q-1).

The agenda for the workshop is attached. The workshop will be open for the public to attend electronically and there is no fee for attendance. Information on the workshop will be posted on the Calendar of Events and the OPP Workshop on the Commission's website, www.ferc.gov, prior to the event. The conference will be transcribed.

The workshop will be accessible under section 508 of the Rehabilitation Act of 1973. For accessibility accommodations, please send an email to accessibility@ferc.gov or call toll free 1-866-208-3372 (voice) or 202-208-8659 (TTY), or send a fax to 202-208-2106 with the required accommodations.

For more information about this workshop, please contact Stacey Steep of the Office of General Counsel at (202) 502-8148, or send an email to OPPWorkshop@ferc.gov. For logistical issues, contact Sarah McKinley, (202) 502-8368, sarah.mckinley@ferc.gov.

Dated: April 5, 2021.
Kimberly D. Bose,
Secretary.

[FR Doc. 2021-07322 Filed 4-8-21; 8:45 am]

BILLING CODE 6717-01-P